DEPARTMENT OF DEFENSE

National Security Agency/Central Security Service

[DoD-2006-OS-0104]

Privacy Act of 1974; System of Records

AGENCY: National Security Agency/Central Security Service.

ACTION: Notice to add a system of records.

SUMMARY: The National Security Agency/Central Security Service purposes to add a system of records notice to its existing inventory of record systems subject to the Privacy Act of 1974, (5 U.S.C. 552a), as amended.

DATES: This proposed action would be effective without further notice on June 30, 2006 unless comments are received which result in a contrary determination.

ADDRESSES: Send comments to the National Security Agency/Central Security Service, Office of Policy, 9800 Savage Road, Suite 6248, Ft. George G. Meade, MD 20755-6248.

FOR FURTHER INFORMATION CONTACT: Ms. Anne Hill at (301) 688-6527.

SUPPLEMENTARY INFORMATION: The National Security Agency's record system notices for records systems subject to the Privacy Act of 1974 (5 U.S.C. 552a), as amended, have been published in the Federal Register and are available from the address above.

The proposed system report, as required by 5 U.S.C. 552a(r) of the Privacy Act of 1974, as amended, was submitted on May 23, 2006 to the House Committee on Government Reform, the Senate Committee on Homeland Security and Governmental Affairs, and the Office of Management and Budget (OMB) pursuant to paragraph 4c of Appendix I to OMB Circular No. A-130, “Federal Agency Responsibilities for Maintaining Records About Individuals” dated February 8, 1996 (February 20, 1996, 61 FR 6427).

Dated: May 24, 2006.
L.M. Bynum,
OSD Federal Register Liaison Officer, Department of Defense.

GNSA 22

System Name:

Garnishment Processing Files.

System location:

National Security Agency/Central Security Service, 9800 Savage Road, Ft. George G. Meade, MD 20755-6000.

Categories of individuals covered by the system:

DoD civilian employees, employee dependents.

Categories of records in the system:

Records include correspondence, type of garnishment, individual court withholding notices or court orders, garnishment orders, child support account numbers, records on employees and dependents to include name, social security number, address, and phone number.

Authority for maintenance of the system:

National Security Agency Act of 1959, as amended, 50 U.S.C. 402 note (Pub. L. 86-36), 50 U.S.C. 403 (Pub. L. 80-253); 44 U.S.C. 3101, Records management by Agency heads; E.O. 9397 (SSN); DoD Directive 5100.20, National Security Agency and Central Security Service; 5 U.S.C. 5520a, Garnishment of Pay; 31 U.S.C. 3701, Debt Collection Act; 42 U.S.C. 659, Consent by United States to income withholding, garnishment, and similar proceedings for enforcement of child support and alimony obligations; 42 U.S.C. 652-653 Social Security Act.

Purpose(s):

To maintain records relating to the processing of court orders for the garnishment of wages.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To state child support agencies, in response to their written requests for information regarding the gross and disposable pay of civilian employees, for purposes of assisting agencies in the discharge of their responsibilities under Federal and state law.

To the Internal Revenue Service to report taxable earnings and taxes withheld, accounting, and tax audits and to compute or resolve tax liability or tax levies.

To private collection contractors to locate a taxpayer and to collect or compromise a claim against, or debt of, the taxpayer.

To consumer or commercial reporting agency in accordance with the Debt Collection Improvement Act of 1996.

The DoD “Blanket Routine Uses.” published at the beginning of the NSA/CSS' compilation of record systems also apply to this record system.

Policies and practices for storing, retrieving, accessing, retaining, and disposing of records in the system:

Storage:

Records are maintained in paper files and on electronic mediums.

Retrievability:

By name, Social Security Number, state of jurisdiction, court of jurisdiction, child support account number, organization, and type of garnishment.

Safeguards:

Buildings are secured by a series of guarded pedestrian gates and checkpoints. Access to facilities is limited to security-cleared personnel and escorted visitors only. With the facilities themselves, access to paper and computer printouts are controlled by limited-access facilities and lockable containers. Access to electronic means is controlled by computer password protection.

Retention and disposal:

Records are periodically reviewed for retention. Records having no evidential, informational, or historical value or not required to be permanently retained are destroyed. Garnishment and Levy notices are destroyed three years from termination date. Destruction is by pulping, burning, shredding, or erasure or destruction of magnetic media.

System manager(s) and address:

Director of Policy, National Security Agency/Central Security Service, 9800 Savage Road, Suite 6248, Ft. George G. Meade, MD 20755-6248.

Notification procedure:

Individuals seeking to determine if records about themselves are contained in this record system should address written inquiries to the Director of Policy, National Security Agency/Central Security Service, 9800 Savage Road, Suite 6248, Ft. George G. Mead, MD 20755-6248.

Written inquiries should include requester's full name, address, and Social Security Number.

Record access procedures:

Individuals seeking access to records about themselves contained in this record system should address written inquiries to the Deputy Director of Policy, National Security Agency/Central Security Service, 9800 Savage Road, Suite 6248, Ft. George G. Meade, MD 20755-6248.

Written inquiries should include requester's full name, address, and Social Security Number.

Contesting record procedures:

The NSA/CSS rules for contesting contents and appealing initial determinations are published at 32 CFR part 322 or may be obtained by written request addressed to the Chief, Office of Policy, National Security Agency/Central Security Service, Ft. George G. Meade, MD 20755-6000.

Record source categories:

Individuals, Federal/state agencies and collection agencies.

Exemptions claimed for the system:

None.

[FR Doc. 06-4956 Filed 5-30-06; 8:45 am]

BILLING CODE 5001-06-M